DEPARTMENT OF THE INTERIOR

Geological Survey

[GX23MR00G6ZW800 OMB Control Number 1028-NEW]

Agency Information Collection Activities; Submission to the Office of Management and Budget for Review and Approval; Turtle Distribution Database

AGENCY: U.S. Geological Survey, Interior.

ACTION: Notice of information collection; request for comment.

SUMMARY: In accordance with the Paperwork Reduction Act of 1995, we, the U.S. Geological Survey (USGS) are proposing a new information collection.

DATES: Interested persons are invited to submit comments on or before August 9, 2023.

ADDRESSES: Send your comments on this Information Collection Request (ICR) to the Office of Management and Budget's (OMB) Desk Officer for the Department of the Interior by email at OIRA_Submission@omb.eop.gov; or via facsimile to (202) 395-5806. Please provide a copy of your comments to U.S. Geological Survey, Information Collections Officer, 12201 Sunrise Valley Drive, MS 159, Reston, VA 20192; or by email to gs-info_collections@usgs.gov. Please reference OMB Control Number 1028-NEW-Turtles in the subject line of your comments.

FOR FURTHER INFORMATION CONTACT: To request additional information about this ICR, contact Margaret Lamont by email at mlamont@usgs.gov, or by telephone at 352-209-4306. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice, 88 FR 10536 with a 60-day public comment period soliciting comments on this collection of information was published on February 21, 2023. No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifiable Information (PII) in your comment, you should be aware that your entire comment—including your PII—may be made publicly available at any time. While you can ask us in your comment to withhold your PII from public review, we cannot guarantee that we will be able to do so.

Abstract: The order Testudines, which encompasses tortoises and freshwater and marine turtles, is among the most threatened group of vertebrates in the world. However, turtles are frequently observed during everyday activities, such as while walking through a park, driving along a roadway, or kayaking in a river or pond. Local citizen-science projects focused on single species (such as box turtles) have provided valuable demographic information for turtle populations, but these projects are isolated both spatially and specifically (i.e., focused on one species). This project would use sighting information supplied by citizens to fill gaps in our knowledge of turtle distributions throughout Northern Florida. When a citizen observes a turtle, they would document the species (if possible), location (latitude/longitude collected via cell phone), date, and time, and they would photograph the animal. We would also ask each contributor to provide their initials (not full name) and a way to contact them if questions about the entry arise (e.g., phone number or email address). The sighting information will be mapped and used to develop species-distribution maps.

Title of Collection: Turtle Distribution Database.

OMB Control Number: 1028-NEW.

Form Number: None.

Type of Review: New.

Respondents/Affected Public: Individuals.

Total Estimated Number of Annual Respondents: 250.

Total Estimated Number of Annual Responses: 250.

Estimated Completion Time per Response: 5 minutes on average.

Total Estimated Number of Annual Burden Hours: 21 hours.

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Margaret M. Lamont,
Research Biologist, USGS Wetland and Aquatic Research Center.

[FR Doc. 2023-14479 Filed 7-7-23; 8:45 am]

BILLING CODE 4338-11-P